DEPARTMENT OF HEALTH AND HUMAN SERVICES

Health Resources and Services Administration

Agency Information Collection Activities: Proposed Collection: Public Comment Request; Information Collection Request Title: Healthy Start Evaluation and Quality Improvement, OMB No. 0915-0338—Revision

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this Information Collection Request must be received no later than April 1, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Healthy Start Evaluation and Quality Improvement. OMB No. 0915-0338—Revision.

Abstract: The National Healthy Start Program, funded through HRSA's Maternal and Child Health Bureau (MCHB), has the goal of reducing disparities in infant mortality and adverse perinatal outcomes. The program began as a demonstration project with 15 grantees in 1991 and has expanded since then to 100 grantees across 37 states and Washington, DC. Healthy Start grantees operate in communities with rates of infant mortality at least 1.5 times the U.S. national average and high rates for other adverse perinatal outcomes. These communities are often low-income and geographically, racially, ethnically, and linguistically diverse areas. Healthy Start offers services during the perinatal period (before, during, after pregnancy) and the program works with women and infants through the first 18 months after birth. The Healthy Start program pursues four goals: (1) Improve women's health, (2) improve family health and wellness, (3) promote systems change, and (4) assure impact and effectiveness. Over the past few years, MCHB has sought to implement a uniform set of data elements for monitoring and conducting an evaluation to assess grantees' progress towards these program goals. Under the current OMB approval, the data collection instruments for this evaluation include the following: The National Healthy Start Program Survey; Community Action Network Survey; Healthy Start Site Visit Protocol; Healthy Start Participant Focus Group Protocol; and six (6) client-level screening tools: (1) Demographic Intake Form, (2) Pregnancy Status/History, (3) Preconception, (4) Prenatal, (5) Postpartum, and (6) Interconception/Parenting.

In this proposed revision, MCHB plans to retain the client-level tools as well as the National Healthy Start Program Survey, and eliminate the Community Action Network Survey, Healthy Start Site Visit Protocol and Healthy Start Participant Focus Group Protocol instruments. For the 6 client-level tools, MCHB plans to consolidate them into three (3) tools: (1) Background, (2) Prenatal, and (3) Parenting Information. The purpose of these changes is to reduce time burden on grantees, interviewers, and participants by eliminating items that are duplicated across the forms. In addition to consolidating questions across tools, many individual items have been eliminated or reworded in order to focus the evaluation more clearly on program performance measures. This will shorten the revised instruments, focus them more clearly on a single purpose, and increase consideration of participant sensitivities to certain types of questions. The reduced time burden should increase overall completion of the individual client-level forms by participants, and reduce the number of skipped items within each form.

Need and Proposed Use of the Information: The purpose of the revised data collection instruments will be to assess grantee and client-level progress towards meeting Healthy Start program performance measures. The data will be used to conduct ongoing performance monitoring of the program, thus meeting program needs for accountability, programmatic decision-making, and ongoing quality assurance.

Likely Respondents: For the General Background, Prenatal, and Parenting Information client-level forms, respondents include pregnant women and women of reproductive age who are served by the Healthy Start program. For the National Healthy Start Program Survey, respondents include project directors and staff for each of the grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
General Background Form | * 45,000 | 1 | 45,000 | .30 | 13,500
Prenatal | * 30,000 | 1 | 30,000 | .10 | 3,000
Parenting | * 30,000 | 1 | 30,000 | .25 | 7,500
National Healthy Start Program Web Survey | 100 | 1 | 100 | 2.00 | 200
Total | 105,100 |  | 105,100 |  | 24,200
*All participants (45,000) complete the General Background form, and a subset of these same individuals (30,000) also complete the Prenatal or Parenting forms for total of 105,100 responses.

HRSA specifically requests comments on (1) the necessity and utility of the proposed information collection for the proper performance of the agency's functions, (2) the accuracy of the estimated burden, (3) ways to enhance the quality and utility of the information to be collected, and (4) the use of automated collection techniques or other forms of information technology to minimize the information collection burden.

Amy P. McNulty,
Acting Director, Division of the Executive Secretariat.

[FR Doc. 2019-00393 Filed 1-30-19; 8:45 am]

BILLING CODE 4165-15-P